ENVIRONMENTAL PROTECTION AGENCY

[PF-968; FRL-6739-7]

Notice of Filing a Pesticide Petition to Establish a Tolerance for a Certain Pesticide Chemical in or on Food

AGENCY: Environmental Protection Agency (EPA).

ACTION: Notice.

SUMMARY: This notice announces the initial filing of a pesticide petition proposing the establishment of regulations for residues of a certain pesticide chemical in or on various food commodities.

DATES: Comments, identified by docket control number PF-968, must be received on or before October 6, 2000.

ADDRESSES: Comments may be submitted by mail, electronically, or in person. Please follow the detailed instructions for each method as provided in Unit I.C. of the SUPPLEMENTARY INFORMATION. To ensure proper receipt by EPA, it is imperative that you identify docket control number PF-968 in the subject line on the first page of your response.

FOR FURTHER INFORMATION CONTACT: By mail: Indira Gairola, Registration Division (7505C), Office of Pesticide Programs, Environmental Protection Agency, 1200 Pennsylvania Ave., NW., Washington, DC 20460; telephone number: (703) 308-6379; e-mail address: gairola.indira@epa.gov.

SUPPLEMENTARY INFORMATION:

I. General Information

A. Does this Action Apply to Me?

You may be affected by this action if you are an agricultural producer, food manufacturer or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations”, “Regulations and Proposed Rules,” and then look up the entry for this document under the “Federal Register—Environmental Documents.” You can also go directly to the Federal Register listings at http://www.epa.gov/fedrgstr/.

2. In person. The Agency has established an official record for this action under docket control number PF-968. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number PF-968 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in Wordperfect 6.1/8.0 or ASCII file format. All comments in electronic form must be identified by docket control number PF-968. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is the Agency Taking?

EPA has received a pesticide petition as follows proposing the establishment and/or amendment of regulations for residues of a certain pesticide chemical in or on various food commodities under section 408 of the Federal Food, Drug, and Comestic Act (FFDCA), 21 U.S.C. 346a. EPA has determined that this petition contains data or information regarding the elements set forth in section 408(d)(2); however, EPA has not fully evaluated the sufficiency of the submitted data at this time or whether the data support granting of the petition. Additional data may be needed before EPA rules on the petition.

List of Subjects

Environmental protection, Agricultural commodities, Feed additives, Food additives, Pesticides and pests, Reporting and recordkeeping requirements.

Dated: August 23, 2000.
Peter Caulkins, Acting
Director, Registration Division, Office of Pesticide Programs.

Summary of Petition

The petitioner summary of the pesticide petition is printed below as required by section 408(d)(3) of the FFDCA. The summary of the petition was prepared by the petitioner and represents the view of the petitioner. The petition summary announces the availability of a description of the analytical methods available to EPA for the detection and measurement of the pesticide chemical residues or an explanation of why no such method is needed.

Uniqema

0E6197

EPA has received a pesticide petition (PP0E6197) from Uniqema, 900 Uniqema Boulevard, New Castle, DE 19720 proposing, pursuant to section 408(d) of the FFDCA, 21 U.S.C. 346a(d), to amend 40 CFR part 180 to establish an exemption from the requirement of a tolerance for modified styrene-acrylic polymers. EPA has determined that the petition contains data or information regarding the elements set forth in section 408(d)(2) of the FFDCA; however, EPA has not fully evaluated the sufficiency of the submitted data at this time or whether the data supports granting of the petition. Additional data may be needed before EPA rules on the petition.

A. Residue Chemistry

Magnitude of residues. Uniqema is petitioning that modified styrene-acrylic polymers be exempt from the requirement of a tolerance based upon their compliance with the low risk polymer criteria per 40 CFR 723.250. Therefore, an analytical method to determine residues in raw agricultural commodities has not been proposed. No residue chemistry data or environmental fate data are presented in the petition as the Agency does not generally require some or all of the listed studies to rule on the exemption from the requirement of a tolerance for a low risk polymer inert ingredient.

B. Toxicological Profile

The Agency has established a set of criteria which identifies categories of polymers that present low risk. These criteria (described in 40 CFR 723.250) identify polymers that are relatively unreactive and stable compared to other chemical substances as well as polymers that typically are not readily absorbed. Uniqema believes that modified styrene-acrylic polymers conform to the definition of a polymer given in 40 CFR 723.250 and meet the criteria used to identify a low risk polymer. Uniqema also believes that based on this substance's conformance to the above mentioned criteria, no mammalian toxicity is anticipated from dietary, inhalation or dermal exposure to emulsion polymers and that emulsion polymers will present minimal or no risk.

1. This polymer is not a cationic substance.

2. It contains as an integral part of its composition the atomic elements carbon, hydrogen, and oxygen.

3. It does not contain as an integral part of its composition, except as impurities, any elements other than those listed in 40 CFR 723.250(d)(2)(ii) .

4. This polymer is not designed or reasonably anticipated to substantially degrade, decompose, or depolymerize.

5. It is not manufactured or imported from monomers and/or other reactants that are not already on the TSCA Chemical Substance Inventory or manufactured under an applicable TSCA Section 5 exemption.

6. It is not a water absorbing polymer.

7. The minimum average molecular weight of the above mentioned polymer is greater than 1,000. Substances with molecular weights greater than 400 are generally not readily absorbed through the intact skin, and substances with molecular weights greater than 1,000 are generally not absorbed through the intact gastrointestinal (GI) tract. Chemicals not absorbed through the GI tract are generally incapable of eliciting a toxic response.

This polymer has an oligomer content less than 10%% below MW 500 and less than 25%% MW 1,000.

Uniqema believes sufficient information was submitted in the petition to assess the hazards of modified styrene-acrylic polymers. Based on these polymers conforming to the definition of a polymer and meeting the criteria of a low risk polymer under 40 CFR 723.250, Uniqema believes there are no concerns for risks associated with toxicity.

C. Endocrine Disruption

There is no evidence that modified styrene-acrylic polymers are endocrine disrupters. Substances with molecular weights greater than 400 generally are not absorbed through the intact skin, and substances with molecular weights greater than 1,000 generally are not absorbed through the intact gastrointestinal (GI) tract. Chemicals not absorbed through the skin or GI tract generally are incapable of eliciting a toxic response.

EPA is not requiring information on the endocrine effects of this substance at this time; Congress has allowed 3 years after August 3, 1996, for the Agency to implement a screening program with respect to endocrine effects.

D. Aggregate Exposure

1. Dietary exposure. Some modified styrene-acrylic polymers may be used in contact with food as components of containers used to manufacture, process, or store food when regulated for such use under the FFDCA. Modified styrene-acrylic polymers with a molecular weight greater than 1,000 daltons are not readily absorbed through the intact gastrointestinal tract and are considered incapable of eliciting a toxic response.

2. Non-dietary exposure. Typical uses of modified styrene-acrylic polymers are in the paints and coatings industries as components of coatings. In these uses the primary exposure used is dermal, however, and modified styrene-acrylic polymers with a molecular weight significantly greater than 400 are not readily absorbed through the intact skin and are considered incapable of eliciting a toxic response.

E. Cumulative Effects

There are data to support a conclusion of negligible cumulative risk modified styrene-acrylic polymers. Polymers with molecular weights greater than 400 generally are not absorbed through the intact skin, and substances with molecular weights greater than 1,000 generally are not absorbed through the intact GI tract. Chemicals not absorbed through the skin or GI tract generally are incapable of eliciting a toxic response. Therefore, there is no reasonable expectation of increased risk due to cumulative exposure. Based on this polymer conforming to the definition of a polymer and meeting the criteria of a low risk polymer under 40 CFR 723.250, Uniqema believes there are no concerns for risks associated with cumulative effects.

F. Safety Determination

1. U.S. population. Uniqema believes sufficient information was submitted in the petition to assess the hazards of modified styrene-acrylic polymers. Based on these polymers conforming to the definition of a polymer and meeting the criteria of a low risk polymer under 40 CFR 723.250, Uniqema believes there are no concerns for risks associated with any potential exposure to adults. There are no known additional pathways of exposure (non-occupational, drinking water, etc.) where there would be additional risk to the general population.

2. Infants and children. Uniqema believes sufficient information was submitted in the petition to assess the hazards of modified styrene-acrylic polymers. Based on these polymers conforming to the definition of a polymer and meeting the criteria of a low risk polymer under 40 CFR 723.250, Uniqema believes there are no concerns for risks associated with any potential exposure to infants and children. There are no known pathways of exposure (non-occupational, drinking water, etc.) where infants and children would be at additional risk.

G. International Tolerances

Uniqema is not aware of any country requiring a tolerance for modified styrene-acrylic polymers nor have there been any CODEX maximum residue levels established for these polymers on any food crops at this time.

[FR Doc. 00-22389 Filed 9-5-00; 8:45 am]

BILLING CODE 6560-50-S